DEFENSE BASE CLOSURE AND REALIGNMENT COMMISSION

Notice of the Defense Base Closure and Realignment Commission—Open Meeting (Washington, DC)

AGENCY: Defense Base Closure and Realignment Commission.

ACTION: Notice; Defense Base Closure and Realignment Commission—Open Meeting (Washington, DC).

SUMMARY: Notice is hereby given that the Defense Base Closure and Realignment Commission will hold an open meeting on July 19, 2005 from 1:30 p.m. to 5:30 p.m. at the Hart Senate Office Building, Room 216, Constitution Avenue, Washington DC 20510. The Commission requests that the public consult the 2005 Defense Base Closure and Realignment Commission Web site, http://www.brac.gov, for updates. The Commission will meet to deliberate and vote whether to consider certain base realignment and closure actions that were not included among the actions recommended by the Secretary of Defense on May 13, 2005 (http://www.brac.gov/docs/Principi-Rumsfeld.pdf). The delay of this change notice resulted from the short time-frame established by statute for the operations of the Defense Base Closure and Realignment Commission. The Commission will also deliberate and vote on a portion of the actions recommended by the Secretary of Defense on May 13, 2005. This meeting will be open to the public, subject to the availability of space. Sign language interpretation will be provided.

DATES: July 19, 2005 from 1:30 p.m. to 5:30 p.m.

ADDRESSES: Hart Senate Office Building, Room 216, Constitution Avenue, Washington DC 20510.

FOR FURTHER INFORMATION CONTACT: Please see the 2005 Defense Base Closure and Realignment Commission Web site, http://www.brac.gov. The Commission invites the public to provide direct comment by sending an electronic message through the portal provided on the Commission's Web site or by mailing comments and supporting documents to the 2005 Defense Base Closure and Realignment Commission, 2521 South Clark Street Suite 600, Arlington, Virginia 22202-3920. The Commission requests that public comments be directed toward matters bearing on the decision criteria described in The Defense Base Closure and Realignment Act of 1990, as amended, available on the Commission Web site. Sections 2912 through 2914 of that Act describe the criteria and many of the essential elements of the 2005 BRAC process. For questions regarding this announcement, contact Mr. Dan Cowhig, Deputy General Counsel and Designated Federal Officer, at the Commission's mailing address or by telephone at 703-699-2950 or 2708.

Dated: July 5, 2005.
Jeannette Owings-Ballard,
Administrative Support Officer.

[FR Doc. 05-13473 Filed 7-7-05; 8:45 am]

BILLING CODE 5001-06-P